PEACE CORPS

Proposed Information Collection Requests

AGENCY: Peace Corps.

ACTION: Notice of public use form review to the Office of Management and Budget (Reinstatement of OMB Control Number 0420-0525).

SUMMARY: Pursuant to the Paperwork Reduction Act of 1981 (44 U.S.C., chapter 35), the Peace Corps has submitted to the Office of Management and Budget a request for approval of information collection, OMB Control Number 0420-0525, the Peace Corps Fellows/USA Program Alumni Questionnaire form to be used by the Peace Corps Fellows/USA Program. This is a reinstatement, with change, of a previously approved collection for which approval has expired. The purpose of this notice is to allow for public comments on whether the proposed collection of information is necessary for the proper performance of the functions of the Peace Corps, including whether the information will have practical use; the accuracy of the agency's estimate of the burden of the proposed collections information, including the validity of the methodology and assumptions used; ways to enhance the quality, utility and the clarity of the information to be collected; and, ways to minimize the burden of the collection of information on those who are to respond, including through the use of automated collection techniques, when appropriate, and other forms of information technology.

A copy of the proposed information collection form may be obtained from Dr. Cathryn Ballou, Office of Domestic Programs, Peace Corps, 1111 20th Street, NW, Room 2101, Washington, DC 20526. Dr. Ballou can be contacted by telephone at 202-692-1432 or 800-424-8580 ext 1432. Comments on the form should also be addressed to the attention of Dr. Ballou and should be received on or before August 13, 2001.

Information Collection Abstract

Title: Peace Corps Fellows/USA Program Alumni Questionnaire.

Need for and Use of this Information: This form is completed voluntarily by returned Peace Corps Volunteers who have completed graduate study as part of the Peace Corps Fellows/USA Program. The information provided by the respondents is necessary for evaluating the quality of individual programs, for determining whether graduates education programs have remained in teaching, health and/or community/economic development careers and for seeking future funding. Programmatic information will be disseminated to individual programs and portions of the data collected will be incorporated into grant proposals and reports. Participation in this program also fulfills the third goal of the Peace Corps as required by Congressional legislation and to enhance the Peace Corps Fellows/USA Program.

Respondents: Returned Peace Corps Volunteers (Peace Corps Fellows/USA Program Alumni) only.

Respondent's Obligation to Rely: Voluntary.

Burden on the Public

a. Annual reporting burden: 250 hours.

b. Annual record keeping burden: 0 hours.

c. Estimated average burden per response: 30 minutes.

d. Frequency of response: one time.

e. Estimated number of likely respondents: 500.

f. Estimated cost to respondents: $7.24.

At this time, responses will be returned by mail.

This notice is issued in Washington, DC, on June 1, 2001.
Doug Warrecke,
Acting, Chief Information Officer and Associate Director for Management.

[FR Doc. 01-14887 Filed 6-12-01; 8:45 am]

BILLING CODE 6051-01-M